DEPARTMENT OF LABOR

Employment and Training Administration

Investigations Regarding Certifications of Eligibility To Apply for NAFTA Transitional Adjustment Assistance

Petitions for transitional adjustment assistance under the North American Free Trade Agreement—Transitional Adjustment Assistance Implementation Act (Pub. L. 103-182), hereinafter called (NAFTA-TAA), have been filed with State Governors under Section 250 (b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Public Law 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, D.C. provided such request is filed in writing with the Director of DTAA not later than July 29, 2002.

Also, interested persons are invited to submit written comments regarding the subject matter of the petitions to the Director of DTAA at the address shown below not later than July 29, 2002.

Petitions filed with the Governors are available for inspection at the Office of the Director, DTAA, ETA, DOL, Room C-5311, 200 Constitution Avenue, NW., Washington, DC 20210.

Signed at Washington, DC this 12th day of July 2002.
Edward A. Tomchick,
Director, Division of Trade Adjustment Assistance.

Appendix
Subject firm | Location | Date received at governor's office | Petition No. | Articles produced
Keystone Tool and Machine (Wkrs) | Carlisle, PA | 04/28/2002 | NAFTA-6,137 | Custom made molds, machines, parts.
Milco Industries (TGWA) | Bloomsburg, PA | 04/24/2002 | NAFTA-6,138 | Under garments.
Dispatch Printing (GCIU) | Erie, PA | 04/23/2002 | NAFTA-6,139 | Printed foils.
Louisville Ladder Group, LLC (Co.) | Louisville, KY | 04/22/2002 | NAFTA-6,140 | Aluminum and fiberglass ladders.
Smiths Group—Portex, Inc. (Co.) | Fort Myers, FL | 04/22/2002 | NAFTA-6,141 | Anesthesia circuits.
Watkins Motor Lines (Wkrs) | Charlotte, NC | 04/23/2002 | NAFTA-6,142 | Truck Drivers.
3M (PACE) | St. Paul, MN | 04/24/2002 | NAFTA-6,143 | Tape.
Monona Wire (Wkrs) | Monona, IA | 04/24/2002 | NAFTA-6,144 | Wiring harnesses.
Execumold, Inc. (Wkrs) | Erie, PA | 04/23/2002 | NAFTA-6,145 | Plastic injection mold.
Springs Window Fashions (Co.) | Montgomery, PA | 04/23/2002 | NAFTA-6,146 | Window blinds.
Electronic Data System—EDS (Co.) | Einchester, KY | 04/24/2002 | NAFTA-6,147 | Electronic service.
Stanley Furniture Company (Wkrs) | Stanleytown, VA | 04/24/2002 | NAFTA-6,148 | Furniture.
InterMetro Industries (Co.) | Carol Stream, IL | 04/24/2002 | NAFTA-6,149 | Distribution center.
Stabilit America (Wkrs) | Allentown, PA | 04/26/2002 | NAFTA-6,150 | Fiberglass panels.
Grand Processing (Co.) | Brooklyn, NY | 04/22/2002 | NAFTA-6,151 | Fabric and garments.
Telect (Co.) | Liberty Lake, WA | 04/19/2002 | NAFTA-6,152 | Fiber patchcordo.
Holiday Products—Rauch Industries (Co.) | El Paso, TX | 04/16/2002 | NAFTA-6,153 | Christmas ornaments.
Enterasys Network (Wkrs) | Salt Lake City, UT | 04/27/2002 | NAFTA-6,154 | Internet switches and routers.
Tyco Electronics (Wkrs) | Jonestown, PA | 04/29/2002 | NAFTA-6,155 | Electrical connectors.
Textron Golf and Turfcare (UAW) | Racine, WI | 04/26/2002 | NAFTA-6,156 | Lawn and turf products.
Astechnologies (Wkrs) | Monroe, MI | 04/29/2002 | NAFTA-6,157 | Laminated composite boards.
Fruit of the Loom (Co.) | Fayette, AL | 04/29/2002 | NAFTA-6,158 | Yarn.
Eag Electronics (Wkrs) | Fairview, PA | 05/06/2002 | NAFTA-6,159 | Chasmlines, wire harnesses.
Square D Company (Co.) | Lincoln, NE | 05/06/2002 | NAFTA-6,160 | Circuit breakers.
Superior Essex (Wkrs) | Elizabethtown, KY | 05/06/2002 | NAFTA-6,161 | Copper telephone wire.
Ponderosa Pulp Products (Wkrs) | Oshkosh, WI | 05/03/2002 | NAFTA-6,162 | Deinked pulp.
Sights Denim Systems (Co.) | Hendeson, KY | 05/06/2002 | NAFTA-6,163 | Denim garments
Philips (Wkrs) | Knoxville, TN | 04/30/2002 | NAFTA-6,164 | Projection television sets.
Regal Originals (Co) | New York, NY | 05/03/2002 | NAFTA-6,165 | Dresses.
Perfection—Schwank, Inc. (Co.) | Waynesboro, GA | 05/03/2002 | NAFTA-6,166 | Heater production.
Weatherford (Wkrs) | Grand Junction, CO | 05/03/2002 | NAFTA-6,167 | Air compressors.
A and M Thermometer—Accuracy Scientific (Co.) | Asheville, NC | 05/01/2002 | NAFTA-6,168 | Glass thermometers.
Schlumberger (Wkrs) | San Carlos, CA | 04/04/2002 | NAFTA-6,169 | Meters.
Corcom—A tyco Company (Wkrs) | El Paso, TX | 05/02/2002 | NAFTA-6,170 | Radio frequently filters and relays.
Northrop Grumman (Co.) | Sacramento, CA | 04/26/2002 | NAFTA-6,171 | Electrical wire harnesses.
United States Mfg. (Wkrs) | Pasadena, CA | 04/26/2002 | NAFTA-6,172 | Orthotics, prostetics, orthopedics.
AmeriSteel Corp. (Co.) | Jackson, TN | 04/30/2002 | NAFTA-6,173 | Zinc oxide.
Transylvania Vocation Services—TVS (Wkrs) | Brevard, NC | 05/03/2002 | NAFTA-6,174 | Payroll Services.
Wabash Aluminum Alloys (13057) | East Syracuse, NY | 04/29/2002 | NAFTA-6,175 | Aluminum ingot.
Derlan Precision Gear, (Wkrs) | Bedford Park, IL | 03/06/2002 | NAFTA-6,176 | Gears, transmissions for helicopters.
U.S. Timber Company (Wkrs) | Craigmont, ID | 04/22/2002 | NAFTA-6,177 | Lumber.
Q & Q Sewing (Wkrs) | Andrews, SC | 05/07/2002 | NAFTA-6,178 | T-shirts.
Worthintgon Steel (USWA) | Malvern, PA | 05/07/2002 | NAFTA-6,179 | Cold-rolled steel.
Sunrise Medical—Jay Mfg. (Co.) | Longmont, Co | 05/13/2002 | NAFTA-6,180 | Walkers, canes, crutches.
VF Imagewear (Co.) | Mt. Pleasant, TN | 05/13/2002 | NAFTA-6,181 | Uniforms.
Agilent Technologies (Wkrs) | Rohnert Park, CA | 04/24/2002 | NAFTA-6,182 | Test and measurement electronic products.
Union of Needletrades, Industrial (UNITE) | Union City, GA | 04/20/2002 | NAFTA-6,183 | Union workers.
Mantua Industries (Wkrs) | Woodbury Heights, NJ | 04/16/2002 | NAFTA-6,184 | Women's clothes.
Pillowtex Corp. (UNITE) | Columbus, GA | 05/10/2002 | NAFTA-6,185 | Terry bath and hand towels.
Emerson Process Management—Rosemout (Co.) | Anaheim, CA | 05/10/2002 | NAFTA-6,186 | Gas analyzers.
Coneywell Int'l (Allied Signal) (Co.) | Torrance, CA | 04/24/2002 | NAFTA-6,187 | Turbochargers.
Martin Color (Co.) | Laurens, SC | 05/09/2002 | NAFTA-6,188 | Yarn for carpet.
Essilor of America (Co.) | St. Petersburg, FL | 05/08/2002 | NAFTA-6,189 | Plastic lenses for eye wear.
Newell Rubbermaid (Co.) | Santa Monica, CA | 04/30/2002 | NAFTA-6,190 | Rubber products.
John Deere Commercial Worksite (Wkrs) | Loudon, TN | 05/07/2002 | NAFTA-6,191 | Buckets, lower link and upper links.
LNP Engineering Plastics (Co.) | Santa Ana, CA | 05/09/2002 | NAFTA-6,192 | Thermoplastic pellets.
Kimble Glass (Wkrs) | Vineland, NJ | 05/09/2002 | NAFTA-6,193 | Glass.
Domtar A.W. (Co.) | Port Edwards, WI | 05/08/2002 | NAFTA-6,194 | Paper.
Invensys Sensor System (Wkrs) | El Paso, TX | 05/08/2002 | NAFTA-6,195 | Potentiometers, switches, resistors.
Bemis Mfg. (Wkrs) | Crannon, WI | 05/07/2002 | NAFTA-6,196 | Toilet seats.
PW, Pipe (Wkrs) | Hillsboro, OR | 05/06/2002 | NAFTA-6,197 | Water pipe sewer.
General Electronic (IUE) | Fort Wayne, IN | 05/13/2002 | NAFTA-6,198 | Frame motors and transformers.
Hahn Equipment Company (UAW) | Evansville, IN | 05/10/2002 | NAFTA-6,199 | Commercial Lawn Equipment
Firestrol (Comp) | Cary, NC | 05/16/2002 | NAFTA-6,200 | Electrical Controls.

[FR Doc. 02-18063 Filed 7-17-02; 8:45 am]

BILLING CODE 4510-30-M